DEPARTMENT OF ENERGY

Federal Energy Regulatory Commission

[Docket No. PR04-6-003]

Cranberry Pipeline Corporation; Notice of Compliance Filing

December 7, 2005.

Take notice that on November 11, 2005, Cranberry Pipeline Corporation, filed with the Federal Energy Regulatory Commission a revised Statement of Operating Conditions in compliance with the Commission's “Order Rejecting Partial Settlement, Establishing Transportation and Storage Rates, and Directing Filing,” issued on September 13, 2005 in Docket Nos. PR04-6-000 and PR04-6-001.

Any person desiring to protest this rate proceeding must file a protest with the Federal Energy Regulatory Commission, 888 First Street, NE., Washington, DC 20426, in accordance with section 385.211 of the Commission's Rules and Regulations. All such protests must be filed with the Secretary of the Commission on or before the date as indicated below. Protests will be considered by the Commission in determining the appropriate action to be taken, but will not serve to make protestants parties to the proceedings. This petition for rate approval is available for review at the Commission in the Public Reference Room or may be viewed on the Commission's Web site at http://www.ferc.gov using the FERRIS link. Enter the docket number excluding the last three digits in the docket number field to access the document. For assistance, call (202) 502-8222 or for TTY, (202) 502-8659. Comments, protests and interventions may be filed electronically via the Internet in lieu of paper. The Commission strongly encourages electronic filings. See, 18 CFR 385.2001(1)(iii) and the instructions on the Commission's Web site under the e-Filing link.

Comment Date: 5 p.m. eastern time on December 28, 2005.

Magalie R. Salas,
Secretary.

[FR Doc. E5-7355 Filed 12-14-05; 8:45 am]

BILLING CODE 6717-01-P